DEPARTMENT OF HEALTH AND HUMAN SERVICES

Centers for Disease Control and Prevention

[60Day-08-08AC]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 and send comments to Maryam I. Daneshvar, CDC Acting Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Racial and Ethnic Approaches to Community Health (REACH) U.S. Evaluation—New—National Center for Chronic Disease Prevention and Health Promotion (NCCDPHP), Centers for Disease Control and Prevention (CDC).

Background and Brief Description

REACH U.S. is an effort to meet the Healthy People 2010 goal of eliminating health disparities in the health status of racial and ethnic minorities. After initial review of the national data, a study approach was adopted on the statistical techniques of “excess deaths” to define the difference in minority health in relation to non-minority health. The analysis of excess deaths revealed that several specific health areas accounted for the majority of the higher annual proportion of minority deaths. Because of these sobering statistics, and the overarching goals of Healthy People 2010, REACH U.S. is being launched as a national multi-level community intervention program that serves communities with African American, American Indian, Hispanic American, Asian American, and Pacific Islander citizens. The REACH U.S. program supports community coalitions in designing, implementing, and evaluating community-driven strategies to eliminate health disparities in several priority areas: Cardiovascular diseases, diabetes, asthma, infant mortality, breast and cervical cancer screening and management, and adult immunization.

As part of the evaluation of the REACH U.S. initiative, CDC proposes to conduct risk factor surveys by computer-assisted telephone interview (CATI) in 29 communities participating in REACH U.S. activities. Surveys will be available in English, Spanish, Vietnamese, Khmer, and Mandarin Chinese. The target number of surveys for each community is 900 adults, aged 18 and older, who belong to the racial/ethnic group served by the community-based program intervention. In communities that focus on breast and cervical cancer interventions, approximately 250 of the 900 interviews will involve women aged 40-64 years. Respondents will be identified through list-assisted random-digit dialing methods. The surveys will help to assess the prevalence of various risk factors associated with chronic diseases, deficits in breast and cervical cancer screening and management, and deficits in adult immunizations. The surveys will also assess progress towards the national goal of eliminating health disparities within the communities.

There are no costs to respondents other than their time.

Estimated Annualized Burden Hours
Type of respondents | Form name | No. of respondents | No. of responses per respondent | Avg. burden per response (in hrs) | Total burden (in hrs)
Members of REACH U.S. Communities | Screening Interview | 100,200 | 1 | 2/60 | 3,340
| REACH U.S. Risk Factor Survey | 26,100 | 1 | 15/60 | 6,525
Total |  |  |  |  | 9,865

Dated: November 9, 2007.
Maryam I. Daneshvar,
Acting Reports Clearance Officer, Centers for Disease Control and Prevention.

[FR Doc. E7-22421 Filed 11-15-07; 8:45 am]

BILLING CODE 4163-18-P